DEPARTMENT OF THE INTERIOR

National Park Service

[NPS-WASO-NAGPRA-15177; PPWOCRADN0-PCU00RP14.R50000]

Notice of Inventory Completion: Texas A&M University, College Station, TX

AGENCY: National Park Service, Interior.

ACTION: Notice.

SUMMARY: Texas A&M University has completed an inventory of human remains, in consultation with the appropriate Indian tribes or Native Hawaiian organizations, and has determined that there is a cultural affiliation between the human remains and present-day Indian tribes or Native Hawaiian organizations. Lineal descendants or representatives of any Indian tribe or Native Hawaiian organization not identified in this notice that wish to request transfer of control of these human remains should submit a written request to Texas A&M University. If no additional requestors come forward, transfer of control of the human remains to the lineal descendants, Indian tribes, or Native Hawaiian organizations stated in this notice may proceed.

DATES: Lineal descendants or representatives of any Indian tribe or Native Hawaiian organization not identified in this notice that wish to request transfer of control of these human remains should submit a written request with information in support of the request to Texas A&M University at the address in this notice by May 19, 2014.

ADDRESSES: Dr. Suzanne L. Eckert, Department of Anthropology, Texas A&M University, College Station, TX 77843-4352, telephone (979) 845-5242.

SUPPLEMENTARY INFORMATION: Notice is here given in accordance with the Native American Graves Protection and Repatriation Act (NAGPRA), 25 U.S.C. 3003, of the completion of an inventory of human remains under the control of Texas A&M University, College Station, TX. The human remains were removed from Erath, Somervell, and Palo Pinto Counties, TX.

This notice is published as part of the National Park Service's administrative responsibilities under NAGPRA, 25 U.S.C. 3003(d)(3). The determinations in this notice are the sole responsibility of the museum, institution, or Federal agency that has control of the Native American human remains. The National Park Service is not responsible for the determinations in this notice.

Consultation

A detailed assessment of the human remains was made by Texas A&M University (TAMU) professional staff in 1995. In 2010, representatives of the Comanche Nation, Oklahoma; Tonkawa Tribe of Indians of Oklahoma; and the Wichita and Affiliated Tribes (Wichita, Keechi, Waco & Tawakonie), Oklahoma, were invited to consult with TAMU for the purpose of determining the place and manner of the repatriation. No representatives from the tribes contacted TAMU in response to this invitation.

History and Description of the Remains

In the spring of 1991, human remains representing, at minimum, one individual were removed from the Trinque Site (41ER27) in Erath County, TX, by volunteers working with the Texas Historical Commission. These human remains were then donated to TAMU. At the time of excavation, the human remains from this site were identified as being from Feature 1 (TAMU-NAGPRA 39). The human remains were determined to be one subadult. Based on the presence of diagnostic projectile points at the site, the human remains were dated to the Austin Phase (800-1350 A.D.). No known individuals were identified. No associated funerary objects are present.

In the fall of 1990, human remains representing, at minimum, two individuals were removed from the Lemens Rockshelter (41SV60) in Somervell County, TX, by private individuals. These remains were then donated to TAMU. At the time of donation, the human remains were identified as late prehistoric, without further explanation. The human remains were determined to be one adult male and one subadult (TAMU-NAGPRA 44). No known individuals were identified. No associated funerary objects are present.

Some prior to 1988, human remains representing, at minimum, one individual were removed from private land in Palo Pinto County, TX, by individuals working for the Upham Oil & Gas Company. These remains were labeled the “Owen Collection” and donated to TAMU. At the time of donation, the human remains were identified as late Archaic (800-1500 A.D.), without further explanation. The human remains were determined to be one adult female (TAMU-NAGPRA 62). No known individuals were identified. No associated funerary objects are present.

Based on geographic location of all the sites in this notice, TAMU staff found it reasonable to trace a shared identity between the human remains in this notice and the Comanche Nation, Oklahoma; Tonkawa Tribe of Indians of Oklahoma; and the Wichita and Affiliated Tribes (Wichita, Keechi, Waco & Tawakonie), Oklahoma.

Determinations Made by Texas A&M University

Officials of Texas A&M University have determined that:

• Pursuant to 25 U.S.C. 3001(9), the human remains described in this notice represent the physical remains of four individuals of Native American ancestry.

• Pursuant to 25 U.S.C. 3001(2), there is a relationship of shared group identity that can be reasonably traced between the Native American human remains and the Comanche Nation, Oklahoma; Tonkawa Tribe of Indians of Oklahoma; and the Wichita and Affiliated Tribes (Wichita, Keechi, Waco & Tawakonie), Oklahoma.

Additional Requestors and Disposition

Lineal descendants or representatives of any Indian tribe or Native Hawaiian organization not identified in this notice that wish to request transfer of control of these human remains should submit a written request with information in support of the request to Dr. Suzanne L. Eckert, Department of Anthropology, Texas A&M University, College Station, TX 77843-4352, telephone (979) 845-5242, by May 19, 2014. After that date, if no additional requestors have come forward, transfer of control of the human remains to the Comanche Nation, Oklahoma; Tonkawa Tribe of Indians of Oklahoma; and the Wichita and Affiliated Tribes (Wichita, Keechi, Waco & Tawakonie), Oklahoma.

Texas A&M University is responsible for notifying the Comanche Nation, Oklahoma; Tonkawa Tribe of Indians of Oklahoma; and the Wichita and Affiliated Tribes (Wichita, Keechi, Waco & Tawakonie), Oklahoma, that this notice has been published.

Dated: March 4, 2014.
Sherry Hutt,
Manager, National NAGPRA Program.

[FR Doc. 2014-08818 Filed 4-16-14; 8:45 am]

BILLING CODE 4312-50-P